DEPARTMENT OF LABOR

Employment and Training Administration

[TA-W-82,442]

Deluxe Laboratories, Inc., a Division of Deluxe Entertainment Services Group, Inc., Hollywood, California; Notice of Affirmative Determination Regarding Application for Reconsideration

By application dated June 20, 2013, a state workforce official requested administrative reconsideration of the negative determination regarding workers' eligibility to apply for Trade Adjustment Assistance (TAA) applicable to workers and former workers of Deluxe Laboratories, Inc., a division of Deluxe Entertainment Services Group, Inc., Hollywood, California (subject firm). The negative determination was issued on May 2, 2013 and the Notice of Determination was published in the Federal Register on May 24, 2013 (78 FR 31593-31596). Workers at the subject firm were engaged in activities related to the production of release and trailer prints.

The initial investigation resulted in a negative determination based on the Department's findings that with respect to Section 222(a)(2)(A)(ii) of the Act, imports of articles like or directly competitive with release and trailer prints have not increased from 2011 to 2012 or from 2012 to 2013 by the workers' firm or customers of the workers' firm.

With respect to Section 222(a)(2)(B) of the Act, the investigation revealed that the workers' firm did not shift the production of articles like or directly competitive with release and trailer prints to a foreign country or acquire like or directly competitive articles from a foreign country during 2011, 2012, or 2013. Rather, the investigation confirmed that the worker separations are attributable to decreased demand for movies and trailers that are printed on 35mm film.

With respect to Section 222(b)(2) of the Act, the investigation revealed that Deluxe Laboratories, Inc. is not a Supplier or Downstream Producer to a firm that employed a group of workers who received a certification of eligibility under Section 222(a) of the Act, 19 U.S.C. 2272(a).

Finally, the group eligibility requirements under Section 222(e) of the Act, have not been satisfied because the workers' firm has not been publicly identified by name by the International Trade Commission as a member of a domestic industry in an investigation resulting in an affirmative finding of serious injury, market disruption, or material injury, or threat thereof.

The request for reconsideration alleges that other products such as trailer celluloid prints in the form of digital drives, and other storage media used for digital projections, are like and directly competitive with the products produced by the workers of the subject firm. The request for reconsideration alleges that the workers' firm shifted production to a foreign country and acquired products from a foreign country that are like and directly competitive with release and trailer prints, including the aforementioned products. The request for reconsideration also alleges that the subject firm “is a supplier and a downstream producer to Cinetech and also Technicolor, TA-W-82,166, whom received TAA certification.”

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 23rd day of July, 2013.
Del Min Amy Chen,
Certifying Officer, Office of Trade Adjustment Assistance.

[FR Doc. 2013-18491 Filed 7-31-13; 8:45 am]

BILLING CODE 4510-FN-P